DEPARTMENT OF THE INTERIOR

Bureau of Land Management

[LLUTC03.14300000.EU0000; UTU-87604 et al.]

Notice of Realty Action; Proposed Competitive Sale of Public Lands in Washington County, UT

AGENCY: Bureau of Land Management, Interior.

ACTION: Notice.

SUMMARY: The Bureau of Land Management (BLM) is considering the competitive sale of seven parcels of public lands totaling approximately 271.57 acres in Washington County, Utah, at not less than appraised fair market value. The sale would be subject to the applicable provisions of Sections 203 and 209 of the Federal Land Policy and Management Act of 1976 (FLPMA) and BLM regulations.

DATES: In order to ensure consideration in the environmental analysis of the proposed sale, comments must be received by September 21, 2012.

ADDRESSES: Address all written comments concerning this notice to the St. George Field Office, Attn: Shered Mullins, 345 East Riverside Drive, St. George, Utah 84790.

FOR FURTHER INFORMATION CONTACT: Shered Mullins, Realty Specialist, 435-688-3225, at the above address or email to s5mullin@blm.gov. Persons who use a telecommunication device for the deaf (TDD) may call the Federal Information Relay Service (FIRS) at 1-800-877-8339 to contact the above individual. The FIRS is available 24 hours a day, 7 days a week, to leave a message or question with the above individual. You will receive a reply during normal business hours.

SUPPLEMENTARY INFORMATION: The following described public lands in Washington County, Utah, are being considered for competitive sale under the authority of Sections 203 and 209 of the FLPMA 90 Stat. 2750, 43 U.S.C. 1713 and 1719, respectively, and the regulations at 43 CFR 2710 and 2720.

Salt Lake Meridian

Coral Canyon

T. 42 S., R. 15 W.,

Sec. 13, lots 2 and 3, and SW¼NW¼SW¼SE¼.

The area described contains 9.15 acres in Washington County.

Green Valley

T. 42 S., R. 16 W.,

Sec. 35, lot 2 and E½NW¼SE¼NW¼.

The area described contains 12.56 acres in Washington County.

Landfill

T. 42 S., R. 14 W.,

Sec. 17, SE¼NE¼NE¼, NE¼SW¼NE¼,S½SW¼NE¼, and SE¼NE¼.

The area described contains 80 acres in Washington County.

Mesa Palms

T. 43 S., R. 16 W.,

Sec. 1, lot 16.

The area described contains 10 acres in Washington County.

Sand Hollow East

T. 42 S., R. 13 W.,

Sec. 18, S½SE¼SE¼SE¼.

The area described contains 5 acres in Washington County.

Santa Clara 1

T. 42 S., R. 16 W.,

Sec. 15, a portion of the NW¼NW¼ as described in the quit claim deed to the United States recorded in Washington County on February 21, 2008 as document No. 20080007148.

The area described contains 8.008 acres in Washington County.

Santa Clara 2

T. 42 S., R. 16 W.,

Sec. 15, a portion of lot 3 as described in the quit claim deed to the United States recorded in Washington County on February 21, 2008 as document No. 20080007147.

The area described contains 1.848 acres in Washington County.

Washington Dome

T. 42 S., R. 15 W.,

Sec. 25, lots 1,4, 6, and 7, SW¼NE¼, E½SE¼NW¼, and N½NW¼SE¼NW¼.

The area described contains 145.01 acres in Washington County.

The areas described aggregate 271.57 acres, more or less, in Washington County.

The sale is in conformance with the BLM St. George Field Office Resource Management Plan approved in March 1999. The lands are also identified as suitable for disposal and are in compliance with Subtitle O of Omnibus Public Land Management Act of 2009 (Pub. L. 111-11). Conveyance of the identified public lands will be subject to valid existing rights and encumbrances of record, including but not limited to, rights-of-way for roads and public utilities. Conveyance of any mineral interests pursuant to Section 209 of the FLPMA will be analyzed during processing of the proposed sale. On August 7, 2012, the above-described lands will be segregated from all forms of appropriation under the public land laws, including the mining laws, except the sale provisions of the FLPMA. Until completion of the sale, the BLM is no longer accepting land use applications affecting the identified public lands, except applications for the amendment of previously filed right-of-way applications or existing authorizations to increase the term of the grants in accordance with 43 CFR 2807.15 and 2886.15. The segregative effect will terminate upon issuance of a patent, publication in the Federal Register of a termination of the segregation, or August 7, 2014 unless extended by the BLM Utah State Director in accordance with 43 CFR 2711.1-2(d) prior to the termination date.

For a period until September 21, 2012, interested parties and the general public may submit in writing any comments concerning the land being considered for sale, including notification of any encumbrances or other claims relating to the identified land, to the Field Manager, BLM St. George Field Office, at the above address. In order to ensure consideration in the environmental analysis of the proposed sale, comments must be in writing and postmarked or delivered within 45 days of the initial date of publication of this notice. Electronic mail (email) will also be accepted and should be sent to UT_SGFO_Comments@blm.gov with “St. George Land Sale” inserted in the subject line. Comments, including names and street addresses of respondents, will be available for public review at the BLM St. George Field Office during regular business hours, except holidays. Individual respondents may request confidentiality. Before including your address, phone number, email address, or other personal identifying information in your comment, be advised that your entire comment—including your personal identifying information—may be made publicly available at any time. While you can ask us in your comment to withhold from public review your personal identifying information, we cannot guarantee that we will be able to do so.

Authority: 43 CFR 2711.1-2.

Shelley J. Smith,
Acting Associate State Director.

[FR Doc. 2012-19263 Filed 8-6-12; 8:45 am]

BILLING CODE 4310-DQ-P